DEPARTMENT OF HEALTH AND HUMAN SERVICES

Centers for Disease Control and Prevention

Request for Nominations of Candidates To Serve as Members of the Community Preventive Services Task Force (CPSTF)

AGENCY: Centers for Disease Control and Prevention (CDC), Department of Health and Human Services (HHS).

ACTION: Notice.

SUMMARY: The Centers for Disease Control and Prevention (CDC) within the Department of Health and Human Services (HHS) announces the opening of the nomination period for individuals qualified to serve as members of the Community Preventive Services Task Force (CPSTF) to serve 5-year terms starting in 2018 or 2019.

DATES: Nomination packages must be received by 11:59 p.m. EDT on Monday, July 3, 2017. Complete nomination packages must be submitted by the deadline in order to be considered.

ADDRESSES: Nomination packages should be submitted electronically to cpstf@cdc.gov or by U.S. mail to the address provided below in FOR FURTHER INFORMATION CONTACT.

FOR FURTHER INFORMATION CONTACT: Donyelle Russ, Center for Surveillance, Epidemiology, and Laboratory Services, Centers for Disease Control and Prevention, 1600 Clifton Road NE., MS E-69, Atlanta, Georgia 30329. Phone (404) 498-3971, email: cpstf@cdc.gov.

The submission process and qualification requirements, the selection process, and the time commitment of Task Force members are described below in SUPPLEMENTARY INFORMATION.

SUPPLEMENTARY INFORMATION:

Background of the CPSTF

The CPSTF was established in 1996 by the U.S. Department of Health and Human Services (HHS) to identify population health interventions that are scientifically proven to save lives, increase lifespans, and improve quality of life. The CPSTF produces recommendations (and identifies evidence gaps) to help inform the decision making of federal, state, and local health departments, other government agencies, communities, healthcare providers and organizations, employers, schools and research organizations.

The CPSTF (http://www.thecommunityguide.org/about/task-force-members.html), is an independent, nonpartisan, nonfederal, unpaid panel of public health and prevention experts that is statutorily mandated to provide evidence-based findings and recommendations about community preventive services, programs, and policies to improve health (Public Health Service Act § 399U(a)). Its members represent a broad range of research, practice, and policy expertise in community preventive services, public health, health promotion, and disease prevention. The CPSTF members are appointed by the CDC Director and serve five year terms, with extensions possible in order to maintain a full scope of expertise, complete specific work, and ensure consistency of CPSTF methods and recommendations. CDC provides “ongoing administrative, research, and technical support for the operations of the Task Force” as directed by the Public Health Service Act § 399U(c).

The CPSTF bases its recommendations on rigorous, replicable systematic reviews of the scientific literature, which do all of the following:

• Evaluate the strength and limitations of published scientific studies about community-based health promotion and disease prevention programs, services, and policies;

• Assess whether the programs, services, and policies are effective in promoting health and preventing disease, injury, and disability;

• Examine the applicability of these programs, services, and policies to varied populations and settings; and

• Conduct economic analyses of recommended interventions.

These systematic reviews are conducted, with CPSTF oversight, by scientists and subject matter experts from the CDC in collaboration with a wide range of government, academic, policy, and practice-based partners. CPSTF findings and recommendations and the systematic reviews on which they are based are available at http://www.thecommunityguide.org/index.html.

Nomination Submissions

Nomination packages must be submitted electronically, and should include:

(1) The nominee's current curriculum vitae;

(2) A brief biographic sketch of the nominee;

(3) The nominee's contact information, including mailing address, email address, and telephone number; and

(4) A brief explanation of how the nominee meets the qualification requirements and how he/she would contribute to the CPSTF. The information provided should also attest to the nominee's willingness to serve as a member of the CPSTF and specify availability (i.e., calendar year 2018 or 2019 or either).

CDC will later ask for detailed information that will permit evaluation of possible significant conflicts of interest, as appropriate and applicable.

To obtain diverse perspectives, CDC encourages nominations of all races, genders, ages and persons living with disabilities. Interested individuals may self-nominate. Organizations and individuals may nominate one or more persons qualified for membership on the CPSTF. Federal employees are not eligible to be CPSTF members. Individuals nominated prior to this round, who continue to have interest in serving on the CPSTF, can be re-nominated.

Qualification Requirements

To qualify for the CPSTF and support its mission, a nominee must, at a minimum, demonstrate knowledge, experience, and national leadership in the following areas:

• The critical evaluation of research or policy, and/or in the methods of evidence review; and

• Research, evaluation, or implementation of community and/or health system-based programs, policies, or services to improve population health.

Strongest consideration will be given to individuals with expertise and experience:

• That is applied, with practical applications for public health action;

• That addresses broad public health considerations, or is beyond one or two highly defined areas; and

• In state and/or local health departments.

In the current round of nominations, the strongest consideration will also be given to people with expertise and experience in systematic review methods, economic analysis, injury (in particular substance abuse and violence prevention), aging, and rural health. The CPSTF will also benefit from members with expertise and experience in the following areas: Minority health; worksite health; military health and readiness; and health media, communications and marketing.

Candidates with experience and skills in any of these areas should highlight them in their nomination materials.

All nominated individuals will be considered for CPSTF membership.

Applicants must have no substantial conflicts of interest, whether financial, professional, or intellectual, that would impair the scientific integrity of the work of the CPSTF and must be willing to complete regular conflict of interest disclosures.

Applicants must have the ability to work collaboratively with a team of diverse professionals who support the mission of the CPSTF. Applicants must have adequate time to contribute substantively to the work products of the CPSTF.

Nominee Selection

Appointments to the CPSTF will be made on the basis of qualifications as outlined above (see Qualification Requirements) and the current expertise needs of the CPSTF.

Time Commitment

The CPSTF conducts three, two-day meetings each year that are open to the public. In addition, a significant portion of the CPSTF's work occurs between meetings during conference calls and via email discussions. Member duties include overseeing the process of prioritizing Task Force work, participating in the development and refinement of systematic review methods, serving as members of individual review teams, and issuing recommendations and findings to help inform the decision making process about policy, practice, research, and research funding in a wide range of U.S. settings. The estimated workload for CPSTF members is approximately 168 hours a year in addition to the three in-person meetings. The members are all volunteers and do not receive any compensation beyond support for travel to in-person meetings.

Dated: May 10, 2017.
Lauren Hoffmann,
Acting Executive Secretary, Centers for Disease Control and Prevention.

[FR Doc. 2017-09733 Filed 5-12-17; 8:45 am]

BILLING CODE 4163-18-P